COMMISSION ON CIVIL RIGHTS

Agenda and Notice of Public Meeting of the South Dakota Advisory Committee

AGENCY: Commission on Civil Rights.

ACTION: Announcement of meeting.

SUMMARY: Notice is hereby given, pursuant to the provisions of the rules and regulations of the U.S. Commission on Civil Rights (Commission), and the Federal Advisory Committee Act (FACA), that a briefing meeting of the South Dakota Advisory Committee to the Commission will convene at 1:00 p.m. (CDT) on Thursday, August 25, 2016, in the Community Room on the 1st Floor of the Aberdeen Public Safety Building, 114 2nd Avenue SE., Aberdeen, SD 57401.

The purpose of the briefing meeting is to examine the subtle effects of racism in South Dakota. The briefing topics will include the value of the use of body-worn cameras in law enforcement, and minority policing that impacts Native Americans and immigrant communities. The South Dakota Advisory Committee will hear from law enforcement, tribal officials, advocacy groups, community organizations, representatives of local, state, and Federal agencies, and the public.

If other persons who plan to attend the meeting require other accommodations, please contact Evelyn Bohor at ebohor@usccr.gov at the Rocky Mountain Regional Office at least ten (10) working days before the scheduled date of the meeting.

Time will be set aside at the end of the briefing so that members of the public may address the Committee after the formal presentations have been completed. Persons interested in the issue are also invited to submit written comments; the comments must be received in the regional office by Monday, September 26. Written comments may be mailed to the Rocky Mountain Regional Office, U.S. Commission on Civil Rights, 1961 Stout Street, Suite 13-201, Denver, CO 80294, faxed to (303) 866-1050, or emailed to Evelyn Bohor at ebohor@usccr.gov. Persons who desire additional information may contact the Rocky Mountain Regional Office at (303) 866-1040.

Records and documents discussed during the meeting will be available for public viewing as they become available at https://database.faca.gov/committee/meetings.aspx?cid=274 and clicking on the “Meeting Details” and “Documents” links. Records generated from this meeting may also be inspected and reproduced at the Rocky Mountain Regional Office, as they become available, both before and after the meeting. Persons interested in the work of this advisory committee are advised to go to the Commission's Web site, www.usccr.gov, or to contact the Rocky Mountain Regional Office at the above phone number, email or street address.

Agenda

Welcome and Introductions

Richard Braunstein, Chair, South Dakota Advisory Committee

Malee V. Craft, Regional Director, RMRO-USCCR, Denver, CO

Briefing

South Dakota Advisory Committee

Government and Tribal Officials, Advocates, Experts, Law Enforcement

DATE: Thursday, August 25, 2016 (CDT).

TIME:

1:00 p.m.-5:00 p.m.—Briefing Meeting

5:00 p.m.-6:00 p.m.—Public Session

ADDRESSES: Aberdeen Public Safety Building, Community Room, 1st Floor, 114 2nd Avenue SE., Aberdeen, SD 57401.

FOR FURTHER INFORMATION CONTACT:

Malee Craft at mcraft@usccr.gov, or 303-866-1040.

Dated: August 2, 2016.
David Mussatt,
Chief, Regional Programs Unit.

[FR Doc. 2016-18644 Filed 8-4-16; 8:45 am]

BILLING CODE 6335-01-P